SMALL BUSINESS ADMINISTRATION

National Women's Business Council; Notice of Public Meeting

In accordance with the Women's Business Ownership Act, Public Law 106-554 as amended, the National Women's Business Council (NWBC) would like to announce a forthcoming public Council information gathering meeting. The NWBC will host an information gathering dialogue with female members of the United States Senate. The meeting will be held on Tuesday, September 12, 2006, starting at 4:30 to 5:30 p.m. The meeting will take place at the Dirksen Senate Office Building, Room SD-138, Washington, DC.

The purpose of the meeting is to discuss the impact of current federal policies on women's entrepreneurship and exchange ideas about goals for the women's business community for the next three, five and ten years.

The meeting is open to the public and you must RSVP to attend. Anyone wishing to attend, please contract Katherine Stanley no later than Friday, September 8, 2006, by e-mail at Katherine.@Stanley.sba.gov or fax to 202-205-6825.

Stephen Galvan,
Chief Operating Officer.

[FR Doc. 06-7230 Filed 8-29-06; 8:45 am]

BILLING CODE 8025-01-M